DEPARTMENT OF ENERGY

Federal Energy Regulatory Commission

[Docket No. EL05-14-000]

California Independent System Operator, Corporation; Notice of Initiation of Proceeding and Refund Effective Date

October 29, 2004.

On October 28, 2004, the Commission issued an order initiating a proceeding in Docket No. EL05-14-000 under section 206 of the Federal Power Act. California Independent System Operator Corporation, 109 FERC ¶ 61,087 (2004). In this proceeding, the Commission will determine the justness and reasonableness of Enforcement Protocol 5.1(a), as discussed in the Commission's order.

The refund effective date in Docket No. EL05-14-000, established pursuant to section 206(b) of the Federal Power Act, will be 60 days following publication of this notice in the Federal Register.

Magalie R. Salas,
Secretary.

[FR Doc. E4-3062 Filed 11-5-04; 8:45 am]

BILLING CODE 6717-01-P